DEPARTMENT OF JUSTICE

[OMB Number 1121-0147]

Agency Information Collection Activities; Proposed eCollection eComments Requested; Reinstatement, with Change, of a Previously Approved Collection for Which Approval Has Expired: Census of State and Federal Adult Correctional Facilities

AGENCY: Bureau of Justice Statistics, Department of Justice.

ACTION: 30-Day notice.

SUMMARY: The Department of Justice (DOJ), Office of Justice Programs, Bureau of Justice Statistics, will be submitting the following information collection request to the Office of Management and Budget (OMB) for review and approval in accordance with the Paperwork Reduction Act of 1995. The proposed information collection was previously published in the Federal Register Volume 83, Number 238, page 63909-63911, on December 12, 2018, allowing a 60-day comment period. Following publication of the 60-day notice, the Bureau of Justice Statistics received two comments. Responses to these comments will be included in the final clearance package submitted to OMB.

DATES: Comments are encouraged and will be accepted for an additional 30 days until May 3, 2019.

FOR FURTHER INFORMATION CONTACT: If you have additional comments especially on the estimated public burden or associated response time, suggestions, or need a copy of the proposed information collection instrument with instructions or additional information, please contact Laura Maruschak, Statistician, Bureau of Justice Statistics, 810 Seventh Street NW, Washington, DC 20531 (email: laura.maruschak@usdoj.gov; telephone: 202-307-5986).

SUPPLEMENTARY INFORMATION: Written comments and suggestions from the public and affected agencies concerning the proposed collection of information are encouraged. Your comments should address one or more of the following four points:

—Evaluate whether the proposed collection of information is necessary for the proper performance of the functions of the Bureau of Justice Statistics, including whether the information will have practical utility;

—Evaluate the accuracy of the agency's estimate of the burden of the proposed collection of information, including the validity of the methodology and assumptions used;

—Evaluate whether and if so how the quality, utility, and clarity of the information to be collected can be enhanced; and

—Minimize the burden of the collection of information on those who are to respond, including through the use of appropriate automated, electronic, mechanical, or other technological collection techniques or other forms of information technology, e.g., permitting electronic submission of responses.

Overview of This Information Collection

(1) Type of Information Collection: Reinstatement, with change, of a previously approved collection for which approval has expired.

(2) The Title of the Form/Collection: Census of State and Federal Adult Correctional Facilities.

(3) The agency form number, if any, and the applicable component of the Department sponsoring the collection: The form number for this collection for confinement facilities is CJ-43A and for community-based facilities CJ-43B. The applicable component within the Department of Justice is the Bureau of Justice Statistics (Corrections Unit), in the Office of Justice Programs.

(4) Affected public who will be asked or required to respond, as well as a brief abstract: Primary: State departments of corrections (DOCs) and the Federal Bureau of Prisons (BOP). Others: Various local authorities and private entities for which primary respondents cannot provide facility-level data.

The affected public consists of approximately 451 respondents, including 51 central state DOC and BOP reporters and an estimated 400 reporters for locally- or privately-operated facilities primarily housing prisoners for state or BOP authorities. BJS will attempt to identify central reporters for private facilities operated by the same company. If successful, the overall number of respondents will be reduced.

The Census of State and Federal Adult Correctional Facilities (CCF) is part of the larger Bureau of Justice Statistics' (BJS) portfolio of establishment surveys that inform the nation on the characteristics of adult correctional facilities and persons sentenced to state and federal prisons. The CCF collects data at the facility level. Data obtained are intended to describe the characteristics of confinement and community-based adult correctional facilities that are (1) operated by state and BOP authorities or (2) operated by local authorities or private entities under contract to state or BOP authorities. The data collected inform issues related to the operations of facilities and the conditions of confinement, including facility capacity and crowding, safety and security within prisons, staff workload, overall facility function, programming, work assignments, and special housing. All data are submitted on a voluntary basis. Deviating from the one form administered in 2005, the 2019 CCF will consist of two forms- one for confinement facilities and one for community-based facilities. Consistent with the most recent iteration of the CCF in 2005, BJS plans to collect the following data on each confinement facility eligible for the census with the reference date of June 30, 2019:

• Type of authority operating facility

• Whether the facility is authorized to house males, females, or both males and females

• Physical-security level of the facility

• Functions of the facility

• Whether or not the facility has a designated geriatric or hospice unit

• Percentage of prisoners permitted to leave the facility unaccompanied

• Rated or design capacity of the facility

• Whether or not the facility operated under a state or federal court order or consent decree that limited the number of prisoners it could house

• Whether or not the facility operated under a state or federal court order or consent decree for specific conditions of confinement

• Year that state or federal court order or consent decree took effect

• Number of prisoners on the reference date

• Number of male and female prisoners under the age of 18 on the reference date

• Number of prisoners by racial category on the reference date

• Number of prisoners by custody-security level on the reference date

• Number of prisoners by maximum sentence length (more than 1 year and 1 year or less) on the reference date

• Number of prisoners who were not U.S. citizens on the reference date

• Number of prisoners housed in protective custody, administrative segregation, segregated for disciplinary reasons, or other restrictive housing on the reference date

• Number of prisoners held for federal, state, local, and tribal authorities on the reference date

• Payroll and non-payroll, full-time and part-time staff, employed by the facility on the reference date

• Total number of payroll and non-payroll staff by sex on the reference date

• Number of male and female security staff employed by the facility on the reference date

• Number of security staff by racial category on the reference date

• Number of misconduct/disciplinary reports filed on prisoners over a one-year period

• Number of assaults against facility staff by prisoners reported over a one-year period

• Number of prisoner assaults by other prisoners reported over a one-year period

• Number of disturbances that occurred at the facility over a one-year period

• Number of escapes by prisoners that occurred at the facility over a one-year period

• Number of walkaways by prisoners that occurred at the facility over a one-year period

• Types of work assignments available to prisoners on the reference date

• Types of educational programs available to prisoners on the reference date

• Types of counseling or special programs available to prisoners on the reference date

BJS is proposing to add the following items, all of which are likely available from the same databases as existing data elements and should pose minimal additional burden to the respondents, while enhancing BJS's ability to characterize the corrections system and populations it serves:

• Whether the facility is administratively linked to other facilities and if they are, names of other facilities

• Whether or not the facility has a housing unit specifically designated for veterans

• Number of prisoners being held in restrictive housing on reference date

• Number of security staff on average at facility by day shift, night shift, and overnight shift

• Number of shared security staff with other administratively-linked facilities

• Number of prisoner assaults by other prisoners resulting in serious injury and without serious injury over a one-year period

Finally, BJS is proposing to remove the following items, based on high burden, low utilization, duplication of other BJS data collection efforts, and/or low response rates in 2005:

• Year facility was constructed

• Plans to renovate or close the facility during the next three years

• Net effect of planned changes in terms of bed capacity of the facility

• Number of prisoners housed in a geriatric unit on the reference date

• Number of confined prisoners sentenced to death on the reference date

• Average daily population of male and female prisoners over a one-year period

• Per diem fees paid to the facility for housing for federal, state, or local authorities

• Number of male and female administrators, clerical and maintenance, educational, professional, and technical staff employed by the facility on the reference date

• Number of full-time and part-time payroll staff by racial category on the reference date

• Number of part-time security staff by racial category on the reference date

• Number of facility staff deaths resulting from assaults by prisoners for a one-year period

• Number of disturbances by type (major or other) that occurred at the facility over a one-year period

• Number of prisoners at the facility that had work assignments on the reference date

• Whether the facility operates a work release program, and if so, number of prisoners participating in the program on the reference date

As mentioned above, the CCF will consist of two data collection instruments. Above described the confinement facility collection. The community-based facility form is consistent with the confinement form, but the number of data elements collected is reduced. The following will be collected from each community-based correctional facility eligible for the census with the reference date of June 30, 2019:

• Functions of the facility

• Percentage of prisoners regularly permitted to leave the facility unaccompanied

• Whether the facility is administratively linked to other facilities and if they are, names of other facilities

• Type of authority operating facility

• Whether the facility is authorized to house males, females, or both males and females

• Number of prisoners on the reference date

• Number of male and female prisoners under the age of 18 on the reference date

• Number of prisoners by racial category on the reference date

• Number of prisoners who were not U.S. citizens on the reference date

• Number of prisoners held for federal, state, local, and tribal authorities on the reference date

• Number of walkaways by prisoners that occurred at the facility over a one-year period

• Types of educational programs available to prisoners on the reference date

• Types of counseling or special programs available to prisoners on the reference date

BJS uses the information gathered in CCF in published reports and statistics. The reports will be made available to the U.S. Congress, Executive Office of the President, practitioners, researchers, students, the media, others interested in criminal justice statistics, and the general public via the BJS website.

(5) An estimate of the total number of respondents and the amount of time estimated for an average respondent to respond: There are an estimated 451 respondents reporting for approximately 2,000 facilities—1,400 confinement and 600 community-based. It is estimated to take 2 hours and 45 minutes to complete each confinement facility census form and 45 minutes for each community-based correctional facility census form.

(6) An estimate of the total public burden (in hours) associated with the collection: There is an estimated 4,413 total burden hours associated with this collection, fewer than in 2005. The 4,413 includes the time associated for reviewing instructions, searching existing data sources, gathering necessary data, completing and reviewing this form, and an additional 113 burden hours for data quality follow up. While there is an increase of approximately 300 facilities anticipated to be in scope for the 2019 collection, the decrease in burden hours is attributed to the implementation of a short form for the estimated 600 community-based facilities and the decrease in the number of questions being asked in the longer confinement facility form.

If additional information is required, contact: Melody Braswell, Department Clearance Officer, United States Department of Justice, Justice Management Division, Policy and Planning Staff, Two Constitution Square, 145 N Street NE, 3E.405B, Washington, DC 20530.

Dated: March 29, 2019.
Melody Braswell,
Department Clearance Officer for PRA, U.S. Department of Justice.

[FR Doc. 2019-06437 Filed 4-2-19; 8:45 am]

BILLING CODE 4410-18-P